DEPARTMENT OF DEFENSE

Department of the Navy

Notice of Information on Surplus Land at a Military Installation Designated for Disposal: NASJRB Willow Grove, PA—Jacksonville Road Housing and Shenandoah Woods Housing

AGENCY: Department of the Navy, DoD.

ACTION: Notice.

SUMMARY: This notice provides information on the surplus property at Naval Air Station Joint Reserve Base (NASJRB), Willow Grove, PA—Jacksonville Road Housing and Shenandoah Woods Housing.

FOR FURTHER INFORMATION CONTACT: Ms. Kimberly Kesler, Director, Base Realignment and Closure Program Management Office, 1455 Frazee Road, San Diego, CA 92108-4310, telephone: 619-532-0993 or Mr. David Drozd, Director, Base Realignment and Closure Program Management Office, Northeast, 4911 South Broad Street, Philadelphia, PA 19112-1303, telephone: 215-897-4909.

SUPPLEMENTARY INFORMATION: In 2005, NASJRB Willow Grove, PA, was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property: Pursuant to paragraph (7)(B) of Section 2905(b) of the Act, as amended by the Base Closure Community Redevelopment and Homeless Assistance Act of 1994, the following information regarding the redevelopment authority for surplus property at NASJRB Willow Grove, PA, including Jacksonville Road Housing and Shenandoah Woods Housing is published in the Federal Register.

Redevelopment Authority: The local redevelopment authority for NASJRB Willow Grove, PA, is the Horsham Township Authority for NASJRB. The point of contact is Mr. Michael J. McGee, Executive Director, 1025 Horsham Road, Horsham, PA 19044, telephone: 215-643-3131.

Surplus Property Description: The following off-site housing components of NASJRB Willow Grove, known as Jacksonville Road Housing and Shenandoah Woods Housing are surplus to the needs of the Federal Government.

Jacksonville Road Housing Area

a. Land. Jacksonville Road Housing consists of approximately 2.5 acres of improved fee simple land located in lower Bucks County, Warminster, PA. In general, the area will be available when the installation closes no later than September 2011.

b. Buildings. The following improvements, located on the above described Jacksonville Road Housing land, will also be available when the installation closes.

(1) Single-family homes (6 structures). Comments: Approximately 9,265 square feet. Three detached garage structures (shared use). Comments: Approximately 1,200 square feet.

(2) Paved areas (roads). Comments: Approximately 1,878 square yards consisting of roads and other similar pavements. Approximately 2,230 square yards consisting of other surface areas, i.e., driveways, sidewalks, etc.

Shenandoah Woods Housing Area

a. Land. Shenandoah Woods Housing consists of approximately 51 acres of improved and unimproved fee simple land located in lower Bucks County, Warminster, PA. In general, the area will be available when the installation closes no later than September 2011.

b. Buildings. The following improvements, located on the above described Shenandoah Woods Housing land, will also be available when the installation closes.

(1) Housing Quarters (40 structures). Comments: 199 townhouse units totaling approximately 337,184 square feet.

(2) Community support facilities (6 structures). Comments: Approximately 29,087 square feet. Includes recreation pavilion, ball field, mini-mart, equipment shed, etc.

(3) Paved areas (roads). Comments: Approximately 23,136 square yards consisting of roads and other similar pavements.

Redevelopment Planning: Pursuant to section 2905(b)(7)(F) of the Act, the Horsham Township Authority for NASJRB (the LRA) will conduct a community outreach effort with respect to the surplus property and will publish, within 30 days of the date of this notice, in a newspaper of general circulation in the communities within the vicinity of NASJRB Willow Grove, PA the time period during which the LRA will receive notices of interest from State and local governments, representatives of the homeless, and other interested parties. This publication shall include the name, address and telephone number of the point of contact for the LRA who can provide information on the prescribed form and contents of the notices of interest.

Dated: December 22, 2008.
T. M. Cruz,
Lieutenant Commander, Office of the Judge Advocate General, U.S. Navy, Federal Register Liaison Officer.

[FR Doc. E8-31201 Filed 12-31-08; 8:45 am]

BILLING CODE 3810-FF-P